NATIONAL SCIENCE FOUNDATION

Advisory Committee for Education and Human Resources; Notice of Meeting

In accordance with the Federal Advisory Committee Act (Pub. L. 92-463, as amended), the National Science Foundation (NSF) announces the following meeting:

Name and Committee Code: Advisory Committee for Education and Human Resources (#1119).

Date and Time: May 31, 2018; 8:00 a.m.-5:00 p.m.; June 1, 2018; 8:00 a.m.-2:00 p.m.

Place: National Science Foundation, 2415 Eisenhower Avenue, Room E2020, Alexandria, VA 22314.

Access: To attend the meeting in person, all visitors must contact the Directorate for Education and Human Resources at least 48 hours prior to the meeting to arrange for a visitor's badge. All visitors must access NSF via the Visitor Center entry adjacent to the south building entrance on Eisenhower Avenue on the day of the meeting to receive a visitor's badge. It is suggested that visitors allow time to pass through security screening.

Type of Meeting: Open.

Contact person: Keaven M. Stevenson, National Science Foundation, 2415 Eisenhower Avenue, Room C11001, Alexandria, VA 22314; Telephone and email: (703) 292-8600/kstevens@nsf.gov.

Summary of Minutes: Minutes and meeting materials will be available on the EHR Advisory Committee website at http://www.nsf.gov/ehr/advisory.jsp or can be obtained from Dr. Susan E. Brennan, National Science Foundation, 2415 Eisenhower Ave, Room C11233, Alexandria, VA 22314; Telephone and email: (703) 292-8600/sbrennan@nsf.gov.

Purpose of Meeting: To provide advice with respect to the Foundation's science, technology, engineering, and mathematics (STEM) education and human resources programming.

Agenda

Thursday, May 31, 2018, 8:00 a.m.-5:00 p.m.

• Remarks by the Committee Chair and NSF Assistant Director for Education and Human Resources (EHR)

• Current Challenges in STEM Education

• NSF's Convergence Accelerators: Harnessing the Data Revolution and the Human/Technology Frontier

• Subcommittee Discussions

• Update on EHR Programs

• Discussion with France Córdova, NSF Director and Chief Operating Officer Joan Ferrini-Mundy

Friday, June 1, 2018, 8:00 a.m.-2:00 p.m.

• Day 1 Recap

• Update on Broadening Participation in STEM

• Update on Public-Private Partnerships

• Committee Business

• Advisory Committee Recommendations

Final agenda can be located at the EHR AC website: https://www.nsf.gov/ehr/advisory.jsp.

Dated: April 23, 2018.
Crystal Robinson,
Committee Management Officer.

[FR Doc. 2018-08765 Filed 4-25-18; 8:45 am]

BILLING CODE 7555-01-P